FEDERAL MARITIME COMMISSION

Sunshine Act Meeting

Time and Date: 10 a.m.—March 29, 2006.

Place: 800 North Capitol Street, NW., First Floor Hearing Room, Washington, DC.

Status: Closed.

Matters To Be Considered:

Docket No. 99-16—Carolina Marine Handling, Inc. v. South Carolina State Ports Authority, Charleston Naval Complex Redevelopment Authority, Charleston International Projects, Inc. and Charleston International Ports, LLC.

2. Docket No. 02-04—Anchor Shipping Co. v. Alianca Navegacao E Logistica Ltda.

FOR FURTHER INFORMATION CONTACT: Bryant L. VanBrakle, Secretary, (202) 523-5725.

Bryant L. VanBrakle,
Secretary.

[FR Doc. 06-2906 Filed 3-22-06; 10:29 am]

BILLING CODE 6730-01-M